FEDERAL TRADE COMMISSION

16 CFR Part 305

[RIN 3084-AB03]

Energy Labeling Rule

AGENCY: Federal Trade Commission.

ACTION: Final rule.

SUMMARY: The Federal Trade Commission (“Commission”) amends its Energy Labeling Rule (“Rule”) by publishing new ranges of comparability for required labels on central air conditioners, heat pumps, and weatherized furnaces.

DATES: The amendments announced in this document will become effective on January 1, 2015.

FOR FURTHER INFORMATION CONTACT: Hampton Newsome, Attorney, Division of Enforcement, Federal Trade Commission, Washington, DC 20580 (202-326-2889).

SUPPLEMENTARY INFORMATION:

I. Background

The Commission issued the Energy Labeling Rule in 1979, 44 FR 66466 (Nov. 19, 1979) pursuant to the Energy Policy and Conservation Act of 1975 (“EPCA”).¹ The Rule covers several categories of major household appliances, including central air conditioners and heat pumps. It requires manufacturers of covered appliances to disclose specific energy consumption or efficiency information (derived from DOE test procedures) at the point-of-sale. In addition, each label must include a “range of comparability” indicating the highest and lowest energy consumption or efficiencies for comparable models. The Commission updates these ranges periodically.

¹ 42 U.S.C. 6294. EPCA also requires the Department of Energy (“DOE”) to set minimum efficiency standards and develop test procedures to measure energy use.

II. Range Updates for Central Air Conditioners, Heat Pumps, and Weatherized Furnaces

The Commission is updating the Rule's ranges of comparability, based on current data, for central air conditioners, heat pumps, and weatherized furnaces, effective January 1, 2015. In a February 6, 2013 Federal Register Notice (78 FR 8362), the Commission issued new EnergyGuide label requirements to help consumers, distributors, contractors, and installers easily determine whether a specific furnace or central air conditioner meets applicable DOE regional efficiency standards. Among other things, these amendments revised labels for central air conditioners, heat pumps, and weatherized furnaces that will be required on January 1, 2015. In the 2013 Notice, the Commission did not publish updated comparability ranges for those products because energy data available at that time would likely become obsolete before the January 1, 2015 date. However, the Commission explained it would publish new ranges for central air conditioners, heat pumps, and weatherized furnaces, when more current data became available before 2015.² That date serves as the effective date for the new FTC labels and the new comparability ranges for these products.

² 78 FR at 8365.

In addition to publishing the new ranges, the Commission is updating the prototype and sample labels in the Rule to reflect these range changes. As discussed in a Federal Register Notice published this year, the Commission plans to address updates for other heating products, including boilers and non-weatherized furnaces, separately.³

³ 79 FR 34642, 34652 (June 18, 2014).

III. Administrative Procedure Act

The amendments published in this Notice involve routine, technical and minor, or conforming changes to the labeling requirements in the Rule. These technical amendments merely provide a routine change to the range and cost information required on EnergyGuide labels. Accordingly, the Commission finds for good cause that public comment for these technical, procedural amendments is impractical and unnecessary (5 U.S.C. 553(b)(A)(B) and (d)).

IV. Regulatory Flexibility Act

The provisions of the Regulatory Flexibility Act relating to a Regulatory Flexibility Act analysis (5 U.S.C. 603-604) are not applicable to this proceeding because the amendments do not impose any new obligations on entities regulated by the Energy Labeling Rule. These technical amendments merely provide a routine change to the range information required on EnergyGuide labels. Thus, the amendments will not have a “significant economic impact on a substantial number of small entities.” ⁴ The Commission has concluded, therefore, that a regulatory flexibility analysis is not necessary, and certifies, under Section 605 of the Regulatory Flexibility Act (5 U.S.C. 605(b)), that the amendments announced today will not have a significant economic impact on a substantial number of small entities.

⁴ 5 U.S.C. 605.

V. Paperwork Reduction Act

The current Rule contains recordkeeping, disclosure, testing, and reporting requirements that constitute information collection requirements as defined by 5 CFR 1320.3(c), the definitional provision within the Office of Management and Budget (OMB) regulations that implement the Paperwork Reduction Act (PRA). OMB has approved the Rule's existing information collection requirements through May 31, 2017 (OMB Control No. 3084 0069). The amendments now being adopted do not change the substance or frequency of the recordkeeping, disclosure, or reporting requirements and, therefore, do not require further OMB clearance.

List of Subjects in 16 CFR Part 305

Advertising, Energy conservation, Household appliances, Labeling, Reporting and recordkeeping requirements.

For the reasons set out in the preamble of this document, the Federal Trade Commission amends 16 CFR part 305 as follows:

PART 305—ENERGY AND WATER USE LABELING FOR CONSUMER PRODUCTS UNDER THE ENERGY POLICY AND CONSERVATION ACT (“ENERGY LABELING RULE”)

1. The authority citation for part 305 continues to read as follows:

Authority: 42 U.S.C. 6294.

2. Revise Appendix G1 to Part 305 to read as follows:

Appendix G1 to Part 305—Furnaces—Gas

Furnace Type | Range of annual fuel utilization efficiencies (AFUEs): Low | Range of annual fuel utilization efficiencies (AFUEs): High
Non-Weatherized Gas Furnaces Manufactured Before the Compliance Date of DOE Regional Standards—All Capacities | 78.0 | 96.6
Non-Weatherized Gas Furnaces Manufactured After the Compliance Date of DOE Regional Standards—All Capacities | 80.0 | 98.5
Weatherized Gas Furnaces Manufactured—All Capacities | 81.0 | 95.0

3. Revise Appendix G3 to Part 305 to read as follows:

Appendix G3 to Part 305—Furnaces—Oil

Type | Range of annual fuel utilization efficiencies (AFUEs): Low | Range of annual fuel utilization efficiencies (AFUEs): High
Non-Weatherized Oil Furnaces Manufactured Before the Compliance Date of DOE Regional Standards—All Capacities | 78.0 | 86.1
Non-Weatherized Oil Furnaces Manufactured After the Compliance Date of DOE Regional Standards—All Capacities | 83.0 | 95.4
Weatherized Oil Furnaces—All Capacities | 78.0 | 83.0

4. Revise Appendix H to Part 305 to read as follows:

Appendix H to Part 305—Cooling Performance for Central Air Conditioners

Manufacturer's rated cooling capacity (Btu's/hr) | Range of SEER's: Low | Range of SEER's: High
Single Package Units
Central Air Conditioners (Cooling Only): All capacities | 13 | 20
Heat Pumps (Cooling Function): All capacities | 13 | 18.1
Split System Units
Central Air Conditioners (Cooling Only): All capacities | 13 | 26
Heat Pumps (Cooling Function): All capacities | 13 | 30.5

5. Revise Appendix I to Part 305 to read as follows:

Appendix I to Part 305—Heating Performance for Central Air Conditioners

Manufacturer's rated heating capacity (Btu's/hr) | Range of HSPF's: Low | Range of HSPF's: High
Single Package Units
Heat Pumps (Heating Function): All capacities | 7.7 | 9.2
Split System Units
Heat Pumps (Heating Function): All capacities | 7.7 | 13.5

6. Appendix L is amended as follows:

a. Prototype Labels 3 and 4 are revised.

b. Sample Label 7 is removed.

c. Sample Labels 7A and 7B are redesignated as Sample Labels 7 and 7A and revised.

d. Sample Label 8 is removed.

e. Sample Label 8A is redesignated as Sample Label 8 and revised.

The revisions read as follows:

Appendix L to Part 305—Sample Labels

* * * * *

BILLING CODE 6750-01-P

* * * * *

By direction of the Commission.
Donald S. Clark,
Secretary.

[FR Doc. 2014-18501 Filed 8-11-14; 8:45 am]

BILLING CODE 6750-01-C